DEPARTMENT OF JUSTICE

Drug Enforcement Administration

[Docket No. DEA-606]

Importer of Controlled Substances Application: Sigma Aldrich Co., LLC

ACTION: Notice of application.

DATES: Registered bulk manufacturer of the affected basic class(es), and applicants therefore, may file written comments on or objections to the issuance of the proposed registration on or before May 21, 2020. Such persons may also file a written request for a hearing on the application on or before May 21, 2020.

ADDRESSES: Written comments should be sent to: Drug Enforcement Administration, Attention: DEA Federal Register Representative/DPW, 8701 Morrissette Drive, Springfield, Virginia 22152. All requests for a hearing must be sent to: Drug Enforcement Administration, Attn: Administrator, 8701 Morrissette Drive, Springfield, Virginia 22152. All requests for a hearing should also be sent to: (1) Drug Enforcement Administration, Attn: Hearing Clerk/OALJ, 8701 Morrissette Drive, Springfield, Virginia 22152; and (2) Drug Enforcement Administration, Attn: DEA Federal Register Representative/DPW, 8701 Morrissette Drive, Springfield, Virginia 22152.

SUPPLEMENTARY INFORMATION: In accordance with 21 CFR 1301.34(a), this is notice that on January 27, 2020, Sigma Aldrich Co., LLC, 3500 DeKalb Street, Saint Louis, Missouri 63118 applied to be registered as an importer of the following basic class(es) of controlled substances:

Controlled substance | Drug code | Schedule
Cathinone | 1235 | I
Methcathinone | 1237 | I
Mephedrone (4-Methyl-N-methylcathinone) | 1248 | I
Gamma Hydroxybutyric Acid | 2010 | I
Tetrahydrocannabinols | 7370 | I
4-Bromo-2,5-dimethoxyamphetamine | 7391 | I
4-Bromo-2,5-dimethoxyphenethylamine | 7392 | I
2,5-Dimethoxyamphetamine | 7396 | I
3,4-Methylenedioxyamphetamine | 7400 | I
3,4-Methylenedioxy-N-ethylamphetamine | 7404 | I
3,4-Methylenedioxymethamphetamine | 7405 | I
4-Methoxyamphetamine | 7411 | I
Dimethyltryptamine | 7435 | I
N-Benzylpiperazine | 7493 | I
Heroin | 9200 | I
Normorphine | 9313 | I
Amobarbital | 2125 | II
Secobarbital | 2315 | II
Nabilone | 7379 | II
Phencyclidine | 7471 | II
Ecgonine | 9180 | II
Ethylmorphine | 9190 | II
Levorphanol | 9220 | II
Meperidine | 9230 | II
Thebaine | 9333 | II
Opium, powdered | 9639 | II
Levo-alphacetylmethadol | 9648 | II

The company plans to import the listed controlled substances for sale to research facilities for drug testing and analysis. In reference to drug code 7370 (Tetrahydrocannabinols) the company plans to import synthetic tetrahydrocannabinols. No other activities for these drug codes are authorized for this registration.

William T. McDermott,
Assistant Administrator.

[FR Doc. 2020-08354 Filed 4-20-20; 8:45 am]

BILLING CODE 4410-09-P